DEPARTMENT OF COMMERCE

National Institute of Standards and Technology

[Docket Number: 210726-0151]

Artificial Intelligence Risk Management Framework

AGENCY: National Institute of Standards and Technology, U.S. Department of Commerce.

ACTION: Request for Information.

SUMMARY: The National Institute of Standards and Technology (NIST) is extending the period for submitting comments relating to the NIST Artificial Intelligence Risk Management Framework (AI RMF or Framework) through September 15, 2021. In a Request for Information (RFI) that published in the Federal Regster on July 29, 2021 (86 FR 40810), NIST requested information to help inform, refine, and guide the development of the AI RMF. The Framework will be developed through a consensus-driven, open, and collaborative process that will include public workshops and other opportunities for stakeholders to provide input. NIST is extending the comment period announced in the July 29, 2021 RFI from August 19, 2021 to September 15, 2021 in response to stakeholder requests for more time to respond to this important issue.

DATES: Comments in response to this notice must be received by 5:00 p.m. Eastern time on September 15, 2021. Written comments in response to the RFI should be submitted according to the instructions in the ADDRESSES and SUPPLEMENTARY INFORMATION sections below. Comments received after August 19, 2021 and before publication of this notice are deemed to be timely. Submissions received after September 15, 2021, may not be considered. Those who have already submitted comments need not resubmit.

ADDRESSES: Comments may be submitted by any of the following methods:

• Electronic submission: Submit electronic public comments via the Federal e-Rulemaking Portal.

1. Go to www.regulations.gov and enter NIST-2021-0004 in the search field,

2. Click the “Comment Now!” icon, complete the required fields, and

3. Enter or attach your comments.

• Email: Comments in electronic form may also be sent to AIframework@nist.gov in any of the following formats: HTML; ASCII; Word; RTF; or PDF.

Please submit comments only and include your name, organization's name (if any), and cite “AI Risk Management Framework” in all correspondence.

FOR FURTHER INFORMATION CONTACT: For questions about this RFI contact: Mark Przybocki (mark.przybocki@nist.gov), U.S. National Institute of Standards and Technology, MS 20899, 100 Bureau Drive, Gaithersburg, MD 20899, telephone (301) 975-3347, email AIframework@nist.gov.

Direct media inquiries to NIST's Office of Public Affairs at (301) 975-2762.

Users of telecommunication devices for the deaf, or a text telephone, may call the Federal Relay Service, toll free at 1-800-877-8339.

Accessible Format: On request to the contact person listed above, NIST will make the RFI available in alternate formats, such as Braille or large print, upon request by persons with disabilities.

SUPPLEMENTARY INFORMATION:

NIST is extending the comment period announced in the July 29, 2021 RFI (86 FR 40810) through September 15, 2021. The agency's work on an AI RMF is consistent with recommendations by the National Security Commission on Artificial Intelligence ¹ and the Plan for Federal Engagement in Developing AI Technical Standards and Related Tools.²

¹ National Security Commission on Artificial Intelligence, Final Report, https://www.nscai.gov/wp-content/uploads/2021/03/Full-Report-Digital-1.pdf.

² Plan for Federal Engagement in Developing AI Technical Standards and Related Tools, https://www.nist.gov/system/files/documents/2019/08/10/ai_standards_fedengagement_plan_9aug2019.pdf.

Congress has directed NIST to collaborate with the private and public sectors to develop a voluntary AI RMF.³ The Framework is intended to help designers, developers, users and evaluators of AI systems better manage risks across the AI lifecycle.

³ H. Rept. 116-455—COMMERCE, JUSTICE, SCIENCE, AND RELATED AGENCIES APPROPRIATIONS BILL, 2021, CRPT-116hrpt455.pdf (congress.gov), and Section 5301 of the National Artificial Intelligence Initiative Act of 2020 (Pub. L. 116-283), https://www.congress.gov/116/bills/hr6395/BILLS-116hr6395enr.pdf.

Authority: 15 U.S.C. 272(b), (c), & (e); 15 U.S.C. 278g-3.

Alicia Chambers,
NIST Executive Secretariat.

[FR Doc. 2021-18108 Filed 8-23-21; 8:45 am]

BILLING CODE 3510-13-P